DEPARTMENT OF ENERGY

Federal Energy Regulatory Commission

Combined Notice of Filings

Take notice that the Commission has received the following Natural Gas Pipeline Rate and Refund Report filings:

Filings Instituting Proceedings

Docket Number: PR17-40-000.

Applicants: Enable Oklahoma Intrastate Transmission, LLC.

Description: Tariff filing per 284.123(b),(e)+ (g): Revised SOC April 2017 to be effective 5/22/2017; Filing Type: 1300.

Filed Date: 4/20/17.

Accession Number: 201704205214.

Comments Due: 5 p.m. ET 5/11/17.

284.123(g) Protests Due: 5 p.m. ET 6/19/17.

Docket Number: PR17-41-000.

Applicants: Salt Plains Storage, LLC.

Description: Tariff filing per 284.123(b),(e)+(g): Salt Plains Housekeeping Filing to be effective 4/25/2017; Filing Type: 1300.

Filed Date: 4/25/17.

Accession Number: 201704255090.

Comments Due: 5 p.m. ET 5/16/17.

284.123(g) Protests Due: 5 p.m. ET 6/26/17.

Docket Numbers: RP17-658-001.

Applicants: Gulf South Pipeline Company, LP.

Description: Gulf South Pipeline Company, LP submits tariff filing per 154.205(b): Amendment to Filing (RP17-658, Pivotal 34691) to be effective 4/17/2017.

Filed Date: 04/26/2017.

Accession Number: 20170426-5248.

Comments Due: 5:00 p.m. Eastern Time on Monday, May 08, 2017.

Docket Numbers: RP17-678-000.

Applicants: Elba Express Company, L.L.C.

Description: Elba Express Company, L.L.C. submits tariff filing per 154.204: EEC Negotiated Rate Filing & Housekeeping Filing to be effective 6/1/2017.

Filed Date: 04/26/2017.

Accession Number: 20170426-5012.

Comments Due: 5:00 p.m. Eastern Time on Monday, May 08, 2017.

Docket Numbers: RP17-679-000.

Applicants: Stingray Pipeline Company, L.L.C.

Description: Stingray Pipeline Company, L.L.C. submits tariff filing per 154.204: Stingray Interim Settlement Rates Tariff Filing to be effective 6/1/2017.

Filed Date: 04/26/2017.

Accession Number: 20170426-5103.

Comments Due: 5:00 p.m. Eastern Time on Monday, May 08, 2017.

Docket Numbers: RP17-680-000.

Applicants: Trailblazer Pipeline Company LLC.

Description: Trailblazer Pipeline Company LLC submits tariff filing per 154.204: Neg Rate 2017-04-26 UET (3) to be effective 5/1/2017.

Filed Date: 04/26/2017.

Accession Number: 20170426-5215.

Comments Due: 5:00 p.m. Eastern Time on Monday, May 08, 2017.

Docket Numbers: RP17-681-000.

Applicants: Rockies Express Pipeline LLC.

Description: Rockies Express Pipeline LLC submits tariff filing per 154.204: Neg Rate 2017-04-26 Encana to be effective 4/26/2017.

Filed Date: 04/26/2017.

Accession Number: 20170426-5216.

Comments Due: 5:00 p.m. Eastern Time on Monday, May 08, 2017.

Docket Numbers: RP17-682-000.

Applicants: Florida Southeast Connection, LLC.

Description: Florida Southeast Connection, LLC submits tariff filing per 154.204: FPL Negotiated Rate Filing to be effective 5/31/2017.

Filed Date: 04/26/2017.

Accession Number: 20170426-5277.

Comments Due: 5:00 p.m. Eastern Time on Monday, May 08, 2017.

Docket Numbers: RP17-683-000.

Applicants: Natural Gas Pipeline Company of America.

Description: Natural Gas Pipeline Company of America LLC submits tariff filing per 154.204: Negotiated Rate—The Peoples Gas LIght and Coke Company to be effective 5/1/2017.

Filed Date: 04/26/2017.

Accession Number: 20170426-5284.

Comments Due: 5:00 p.m. Eastern Time on Monday, May 08, 2017.

Docket Numbers: RP17-684-000.

Applicants: Natural Gas Pipeline Company of America.

Description: Natural Gas Pipeline Company of America LLC submits tariff filing per 154.204: Nicor Amendment to NRA to be effective 5/1/2017.

Filed Date: 04/26/2017.

Accession Number: 20170426-5285.

Comments Due: 5:00 p.m. Eastern Time on Monday, May 08, 2017.

Docket Numbers: RP17-685-000.

Applicants: Sabal Trail Transmission, LLC.

Description: Sabal Trail Transmission, LLC submits tariff filing per 154.202: Sabal Trail Baseline Tariff—CP15-17 Compliance Filing to be effective 5/31/2017.

Filed Date: 04/26/2017.

Accession Number: 20170426-5287.

Comments Due: 5:00 p.m. Eastern Time on Monday, May 08, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2017.
Kimberly D. Bose,
Secretary.

[FR Doc. 2017-09121 Filed 5-4-17; 8:45 am]

BILLING CODE 6717-01-P